SURFACE TRANSPORTATION BOARD

Release of Waybill Data

The Surface Transportation Board has received a request from the East Central Wisconsin Regional Planning Commission (WB21-16—2/16/21) for permission to use select data from the Board's 2018-2019 masked Carload Waybill Sample. A copy of this request may be obtained from the Board's website under docket no. WB21-16.

The waybill sample contains confidential railroad and shipper data; therefore, if any parties object to these requests, they should file their objections with the Director of the Board's Office of Economics within 14 calendar days of the date of this notice. The rules for release of waybill data are codified at 49 CFR 1244.9.

Contact: Alexander Dusenberry, (202) 245-0319.

Regena Smith-Bernard,
Clearance Clerk.

[FR Doc. 2021-04389 Filed 3-2-21; 8:45 am]

BILLING CODE 4915-01-P